DEPARTMENT OF TRANSPORTATION

Federal Aviation Administration

14 CFR Part 39

[Docket No. 2003-NM-84-AD; Amendment 39-13461; AD 2004-03-17]

RIN 2120-AA64

Airworthiness Directives; Boeing Model 747-100, 747-100B, 747-100B SUD, 747-200B, 747-200C, 747-200F, 747-300, 747SP, and 747SR Series Airplanes

AGENCY: Federal Aviation Administration, DOT.

ACTION: Final rule.

SUMMARY: This amendment adopts a new airworthiness directive (AD), applicable to certain Boeing Model 747-100, 747-100B, 747-100B SUD, 747-200B, 747-200C, 747-200F, 747-300, 747SP, and 747SR series airplanes, that requires a one-time inspection of each emergency evacuation slide or slide/raft to determine if a certain discrepant hose assembly is installed, and replacement of the hose assembly with a new or serviceable assembly if necessary. This action is necessary to prevent the failure of an emergency evacuation slide or slide/raft to fully inflate during an emergency situation, which could impede an evacuation and result in injury to passengers or airplane crewmembers. This action is intended to address the identified unsafe condition.

DATES: Effective March 17, 2004.

The incorporation by reference of certain publications listed in the regulations is approved by the Director of the Federal Register as of March 17, 2004.

ADDRESSES: The service information referenced in this AD may be obtained from BFGoodrich Aircraft Evacuation Systems, 3414 S. Fifth Street, Phoenix, Arizona 85040. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Patrick Gillespie, Aerospace Engineer, Cabin Safety and Environmental Systems Branch, ANM-150S, FAA, Seattle Aircraft Certification Office, 1601 Lind Avenue, SW., Renton, Washington 98055-4056; telephone (425) 917-6429; fax (425) 917-6590.

SUPPLEMENTARY INFORMATION: A proposal to amend part 39 of the Federal Aviation Regulations (14 CFR part 39) to include an airworthiness directive (AD) that is applicable to certain Boeing Model 747-100, 747-100B, 747-100B SUD, 747-200B, 747-200C, 747-200F, 747-300, 747SP, and 747SR series airplanes, was published in the Federal Register on July 9, 2003 (68 FR 40821). That action proposed to require a one-time inspection of each emergency evacuation slide or slide/raft to determine if a certain discrepant hose assembly is installed, and replacement of the hose assembly with a new or serviceable assembly if necessary.

Comments

Interested persons have been afforded an opportunity to participate in the making of this amendment. Due consideration has been given to the comments received. One commenter concurs with the proposed rule.

Request to Revise Applicability

One commenter requests that the applicability in the proposed rule be revised to apply to “BFGoodrich slides or slide/rafts having part number 7A1238-()(), 7A1239-()(), 7A1248-()(), 7A1261-()(), 7A-1255-()(), 7A-1256-()(), or 7A-1257-()(), where “()()” represents any dash number of those part numbers, that may be installed on certain Model 747 series airplanes.” The commenter states that the applicability of the proposed rule is misleading and could potentially cause compliance and/or record keeping errors because the slides are certified under a Technical Standard Order and may be removed, repaired, overhauled separately from the airplane, moved from airplane to airplane, or stored awaiting installation. Additionally, the commenter states that it is possible that the discrepant slides could be installed on airplane models not listed in the proposed applicability (i.e., Model 747-400 series airplanes). Therefore, the commenter asserts that the proposed rule should be applicable to the component rather than the airplane model.

The FAA does not agree. According to general FAA policy, if an unsafe condition results from the installation of a particular component in only one particular make and model of airplane, the AD would apply to the airplane model, not the component. The reason for this is: If the AD applies to the airplane model equipped with the item, operators of those airplanes will be notified directly of the unsafe condition and the action required to correct it. While we assume that operators can identify the airplane models they operate, they may not be aware of specific items installed on the airplanes. Therefore, specifying the airplane models in the applicability as the subject of the AD prevents an operator's “unknowing failure to comply” with the AD. We recognize that an unsafe condition may exist in an item that is installed in many different airplanes. In that case, we consider it impractical to issue an AD against each airplane; in fact, many times, the exact models and numbers of airplanes on which the item is installed may be unknown. Therefore, in those situations, the AD would apply to the item and usually indicates that the item is known to be “installed on, but not limited to,” various airplane models. In this case, the applicability extends only to those airplane models for which the discrepant escape slides are approved for installation on; the discrepant slides are not approved for installation on Model 747-400 series airplanes. No change to the final rule is necessary in this regard.

Request To Extend Compliance Time

Another commenter requests that the proposed compliance time be extended from 36 months to 54 months. The commenter states that its current overhaul interval for the affected slides is 54 months. The commenter points out that its maintenance program carries out the Goodrich slide component maintenance manual (CMM) inspections for hydrostatic testing of the hoses during slide overhaul and discards any hose not passing the test. During its 22 years of operating the affected slides on its Model 747 series airplanes, the commenter states that it has had no failed deployments (scheduled, unscheduled, or during shop inflation) due to hose failure. Therefore, the commenter suggests that a 54-month compliance time would provide an adequate level of safety.

We do not agree. In developing an appropriate compliance time for this action, we considered the safety implications, operators' normal maintenance schedules, and the compliance time recommended by the airplane manufacturer for the timely accomplishment of the required actions. In consideration of these items, we have determined that a 36-month compliance time will ensure an acceptable level of safety and is an appropriate interval of time wherein the required actions can be accomplished during scheduled maintenance intervals for the majority of affected operators. We have also determined that the CMM slide inspections are not an adequate means to address the failure mode of the affected slides. However, according to the provisions of paragraph (d) of this final rule, we may approve requests to adjust the compliance time if the request includes data that justify that a different compliance time would provide an acceptable level of safety. No change to the final rule is necessary in this regard.

Conclusion

After careful review of the available data, including the comments noted above, the FAA has determined that air safety and the public interest require the adoption of the rule as proposed.

Cost Impact

There are approximately 333 airplanes of the affected design in the worldwide fleet. The FAA estimates that 88 airplanes of U.S. registry will be affected by this AD.

It will take approximately 1 work hour per airplane to accomplish the required inspection, at an average labor rate of $65 per work hour. Based on these figures, the cost impact of the required inspection on U.S. operators is estimated to be $5,720, or $65 per airplane.

Should an operator be required to accomplish the replacement of a hose assembly, it will take approximately 12 work hours per hose assembly, at an average labor rate of $65 per work hour. Required parts will cost between $795 and $1,169 per hose assembly. Based on these figures, the cost impact of the required replacement is estimated to be between $1,575 and $1,949 per hose assembly.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-17 Boeing: Amendment 39-13461. Docket 2003-NM-84-AD

Applicability: All Model 747-100, 747-100B, 747-100B SUD, 747-200B, 747-200C, 747-200F, 747-300, 747SP, and 747SR series airplanes; certificated in any category; and equipped with BFGoodrich slides or slide/rafts having part number 7A1238-()(), 7A1239-()(), 7A1248-()(), 7A1261-()(), 7A-1255-()(), 7A-1256-()(), or 7A-1257-()(), where “()()” represents any dash number of those part numbers.

Compliance: Required as indicated, unless accomplished previously.

To prevent the failure of an emergency slide or slide/raft to fully inflate during an emergency situation, which could impede an evacuation and result in injury to passengers or airplane crewmembers, accomplish the following:

Inspection To Determine Manufacturing Date

(a) Within 36 months after the effective date of this AD, perform a one-time inspection of the part number information label on each inflation hose assembly on each emergency evacuation slide or slide/raft to determine the manufacturing/test date of the inflation hose assembly. Do this inspection per BFGoodrich Service Bulletin 25-241, dated September 30, 1991. If the manufacturing/test date is May 30, 1983, or later, no further action is required for that inflation hose assembly.

Replacement of Inflation Hose Assembly

(b) For any inflation hose assembly having a manufacturing/test date before May 30, 1983, or on which the manufacturing/test date cannot be determined: Before further flight, replace the subject inflation hose assembly with a new or serviceable hose assembly having a manufacturing/test date on or after May 30, 1983, per BFGoodrich Service Bulletin 25-241, dated September 30, 1991.

Parts Installation

(c) As of the effective date of this AD, no person shall install an inflation hose assembly having a manufacturing/test date before May 30, 1983, or on which the manufacturing/test date cannot be determined, on an emergency evacuation slide or slide/raft on any airplane.

Alternative Methods of Compliance

(d) In accordance with 14 CFR 39.19, the Manager, Seattle Aircraft Certification Office (ACO), FAA, is authorized to approve alternative methods of compliance for this AD.

Incorporation by Reference

(e) The actions shall be done in accordance with BFGoodrich Service Bulletin 25-241, dated September 30, 1991. This incorporation by reference was approved by the Director of the Federal Register in accordance with 5 U.S.C. 552(a) and 1 CFR part 51. Copies may be obtained from BFGoodrich Aircraft Evacuation Systems, 3414 S. Fifth Street, Phoenix, Arizona 85040. Copies may be inspected at the FAA, Transport Airplane Directorate, 1601 Lind Avenue, SW., Renton, Washington; or at the Office of the Federal Register, 800 North Capitol Street, NW., suite 700, Washington, DC.

Effective Date

(f) This amendment becomes effective on March 17, 2004.

Issued in Renton, Washington, on January 29, 2004.
Kalene C. Yanamura,
Acting Manager, Transport Airplane Directorate, Aircraft Certification Service.

[FR Doc. 04-2578 Filed 2-10-04; 8:45 am]

BILLING CODE 4910-13-P